ENVIRONMENTAL PROTECTION AGENCY

[FRL-9764-2]

Public Water System Supervision Program Approval for the State of Ohio

Correction

In notice document 2012-30953, appearing on pages 76034-76035 in the issue of Wednesday, December 26, 2012, make the following corrections:

On page 76035, in the first column, in the first full paragraph:

1. In lines three and four “January 23, 2013” should read “January 25, 2013”.

2. In line ten “January 23, 2013” should read “January 25, 2013”.

3. In line twenty “January 23, 2013” should read “January 25, 2013”.

[FR Doc. C1-2012-30953 Filed 1-14-13; 8:45 am]

BILLING CODE 1505-01-D